DEPARTMENT OF THE INTERIOR

Fish and Wildlife Service

Letters of Authorization To Take Marine Mammals

AGENCY: Fish and Wildlife Service, Interior.

ACTION: Notice of issuance of a Letter of Authorization to take marine mammals incidental to oil and gas industry activities.

SUMMARY: In accordance with section 101(a)(5)(A) of the Marine Mammal Protection Act of 1972, as amended, and the U.S. Fish and Wildlife Service implementing regulations [50 CFR 18.72(f)(3)], notice is hereby given that a Letter of Authorization to take polar bears incidental to oil and gas industry exploration activities has been issued to the following companies.

Company | Activity | Date Issued
Phillips Alaska, Inc | Exploration | November 7, 2000.
Phillips Alaska, Inc | Exploration | November 7, 2000.
Phillips Alaska, Inc | Exploration | November 7, 2000.
Phillips Alaska, Inc | Exploration | November 7, 2000.
Phillips Alaska, Inc | Exploration | November 7, 2000.
Phillips Alaska, Inc | Exploration | November 7, 2000.
Phillips Alaska, Inc | Exploration | November 8, 2000.
Phillips Alaska, Inc | Exploration | November 8, 2000.
Phillips Alaska, Inc | Exploration | November 8, 2000.
Phillips Alaska, Inc | Exploration | November 8, 2000.
Phillips Alaska, Inc | Exploration | November 9, 2000.
Phillips Alaska, Inc | Exploration | November 9, 2000.
Phillips Alaska, Inc | Development | November 13, 2000.
Fairweather Geophysical, LLC | Exploration | November 13, 2000.

CONTACT: Mr. John W. Bridges at the U.S. Fish and Wildlife Service, Marine Mammals Management Office, 1011 East Tudor Road, Anchorage, Alaska 99503, (808) 362-5148 or (907) 786-3810.

SUPPLEMENTARY INFORMATION: The letters of Authorization were issued in accordance with U.S. Fish and Wildlife Service Federal Rules and Regulations “Marine Mammals; Incidental Take During Specified Activities (65 FR 16828; March 30, 2000).”

Dated: November 28, 2000.
David B. Allen,
Regional Director.

[FR Doc. 00-32338 Filed 12-19-00; 8:45 am]

BILLING CODE 4310-55-M